NATIONAL SCIENCE FOUNDATION

Advisory Committee for Innovation Corps; Notice of Meeting; Correction

SUMMARY: On Tuesday, February 12, 2013 (78 FDR 9945), the National Science Foundation published a notice announcing a meeting of the Advisory Committee for Innovation Corps. The location and time of the business meeting are updated to reflect the accurate plans.

In accordance with the Federal Advisory Committee Act (Pub. L. 92-463, as amended), the National Science Foundation announces the following meeting:

Name: Innovation Corps Advisory Committee, #80463.

Dates/Time: March 6, 2013, 10:00 a.m.-2:00 p.m.

Places: Sheraton Crystal City Hotel, 1800 Eads Street, Arlington, VA 22202. National Science Foundation, 4201 Wilson Boulevard, Stafford I, Room 1295, Arlington, VA 22230.

Type of Meeting: Partially Open.

Contact Person: Dedric Carter, Suite 1205, National Science Foundation, 4201 Wilson Boulevard, Arlington, VA 22230. Telephone Number: (703) 292-8002 dacarter@nsf.gov.

Purpose of Meeting: To provide advice and recommendations concerning I-Corps.

Agenda

10:00 a.m.-11:30 a.m.: Closed: Sheraton Crystal City Hotel

Meeting with current I-Corps teams

12:00 p.m.-2:00 p.m.: Open: National Science Foundation

Opening Remarks

Review and discussion of the current I-Corps activities and future directions

Summary

Adjourn

Reason for Closing: The committee will review information of a proprietary or confidential nature, including technical information; financial data; and personal information. These matters are exempt under 5 U.S.C. 552b(c), (4) of the Government in the Sunshine Act.

Dated: February 20, 2013.
Susanne Bolton,
Committee Management Officer.

[FR Doc. 2013-04255 Filed 2-22-13; 8:45 am]

BILLING CODE 7555-01-P